DEPARTMENT OF THE INTERIOR

National Park Service

National Register of Historic Places; Notification of Pending Nominations

Nominations for the following properties being considered for listing in the National Register were received by the National Park Service before December 27, 2003. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by January 21, 2004.

Carol D. Shull,
Keeper of the National Register of Historic Places.

COLORADO

Alamosa County

Medano Ranch Headquarters, 2.6 mi. N of 6N Ln., Mosca, 03001543

Trujillo Homestead, Unnamed two-track road, 9.3 mi. NE of MOsca, MOsca, 03001544

MICHIGAN

Alger County

Pickle Barrel House, NE corner Lake Ave. and Randolph St., Burt Township, 03001548

Chippewa County

Kinross Township Hall and School, 7305 W. Kinross Rd., Kinross Township, 03001549

Lenawee County

Saint Michael and All Angels' Episcopal Church and Cambridge Township Cemetery, 11646 Old Monroe Pike, Cambridge Township, 03001550

Wayne County

Lincoln Park Post Office, 1335 Southfield Rd., Lincoln Park, 03001551

NEW MEXICO

Hidalgo County Lordsburg—Hidalgo County Library, (New Deal in New Mexico MPS) 208 E. Third St., Lordsburg, 03001547

Sierra County

Tingley, Carrie, Hospital Historic District, (New Deal in New Mexico MPS) 992 Broadway, Truth or Consequences, 03001546

NORTH DAKOTA

Stutsman County

Brown, Stephen William, Stone House, 4829 75 R Ave., SE, Montpelier, 03001545

TEXAS

Wichita County

Depot Square Historic District, Roughly bounded by 8th St., Indiana St., 5th St. and MKT Railroad tracks, Wichita Falls, 03001552

[FR Doc. 04-140 Filed 1-5-04; 8:45 am]

BILLING CODE 4312-51-P